DEPARTMENT OF JUSTICE

Notice of Lodging of Consent Decree Under the Clean Air Act

Notice is hereby given that on August 24, 2006, a proposed Consent Decree in United States of America and the Michigan Department of Environmental Quality v. CEMEX, Inc., St. Mary's Cement Inc. (U.S.), and St. Barbara Cement, Inc., Civil Action No. 1:06-CV-0607, was lodged with the United States District Court for the Western District of Michigan.

In this action the United States sought injunctive relieve and civil penalties for violations for the Clean Air Act that occurred at the portland cement manufacturing facility located in 16000 Bell Bays Road, in Charlevoix, Michigan, which was owned and operated by CEMEX, Inc. prior to March 31, 2005, and owned by St. Barbara Cement Inc. and operated by St.Marys Cement Inc. (U.S.) on and after March 31, 2005. The complaint alleges that CEMEX Inc. failed to control and limit particulate matter (dust) emissions, failed to perform required compliance monitoring, and failed to comply with various other requirements government operation of portland cement manufacturing plants.

The proposed consent decree resolves all violations alleged in the complaint. Among other things, the consent decree requires CEMEX Inc. to pay a civil penalty of $1,359,422 to the United States and the State of Michigan and requires St. Marys and St. Barbara to install a baghouse filtering system, which is estimated to cost in excess of $11 million, to remedy the ongoing emissions violations. In addition, the consent decree requires the defendants to spend at least $6.2 million on the installation of a new indirect firing system for the facility's kiln, which is expected to substantially reduce emissions of particulate matter, sulfur dioxide, and nitrogen oxides.

The Department of Justice will receive, for a period of thirty (30) days from the date of this publication, comments relating to the Consent Decree. Comments should be addressed to the Assistant Attorney General, Environmental and Natural Resources Division, P.O. Box 7611, U.S. Department of Justice, Washington, DC 20044-7611, and should refer to United States, et al. v. CEMEX, et al., D.J. Ref. 90-5-2-1-08077.

The Consent Decree may be examined at the Office of the United States Attorney, Fifth Floor, 330 Ionia NW., Grand Rapids, MI. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097. phone confirmation number (202) 514-1547. In requesting a copy from the Consent Decree Library, please enclose a check in the amount of $50.50 (25 cents per page reproduction cost) payable to the U.S. Treasury or, if by e-mail or fax, forward a check in that amount to the Consent Decree Library at the state address. In requesting a copy exclusive of exhibits, please enclose a check in the amount of $10.00 (25 cents per page reproduction cost) payable to the U.S. Treasury.

Margaret M. Chiara,
United States Attorney.
W. Francesca Ferguson,
Assistant United States Attorney, Western District of Michigan.

[FR Doc. 06-8574 Filed 10-10-06; 8:45 am]

BILLING CODE 4410-15-M